ENVIRONMENTAL PROTECTION AGENCY

40 CFR Part 52

[EPA-R01-OAR-2016-0092; FRL-9961-56-Region 1]

Air Plan Approval; Rhode Island; Repeal of NOX Budget Trading Program

AGENCY: Environmental Protection Agency.

ACTION: Proposed rule.

SUMMARY: The Environmental Protection Agency (EPA) is approving a State Implementation Plan (SIP) revision submitted by the State of Rhode Island. This revision removes Air Pollution Control (APC) Regulation 41, entitled “NOX Budget Trading Program” (Rhode Island NBP) from the Rhode Island SIP. The Rhode Island NBP was a market-based cap and trade program, which was created to reduce emissions of nitrogen oxides (NOX) from power plants and other large combustion sources in response to EPA's 1998 NOX SIP Call. By 2009, EPA's Clean Air Interstate Rule (CAIR) had effectively replaced NOX Budget Trading Programs in eastern states. CAIR has since been replaced by the Cross-State Air Pollution Rule (CSAPR), which was first implemented on January 1, 2015. Rhode Island was not covered by CAIR or CSAPR. The State's NBP was repealed under state law effective July 29, 2014. The five sources meeting the NBP applicability criteria have Title V permits, which contain SIP-derived NOX emissions limits, that limit their NOX emissions below the maximum emissions (936 tons) that were allowed under the Rhode Island NBP and, therefore, the requirements of the NOX SIP Call are satisfied by the emissions limits contained in those sources' permits. This renders Regulation 41 unnecessary. This action is being taken in accordance with the Clean Air Act.

DATES: Written comments must be received on or before May 31, 2017.

ADDRESSES: Submit your comments, identified by Docket ID No. EPA-R01-OAR-2016-0092 at http://www.regulations.gov, or via email to arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Alison C. Simcox, Air Quality Planning Unit, Air Programs Branch (Mail Code OEP05-02), U.S. Environmental Protection Agency, Region 1, 5 Post Office Square, Suite 100, Boston, Massachusetts 02109-3912; (617) 918-1684; simcox.alison@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules section of this Federal Register.

Dated: March 23, 2017.
Deborah A. Szaro,
Acting Regional Administrator, EPA New England.

[FR Doc. 2017-08660 Filed 4-28-17; 8:45 am]

BILLING CODE 6560-50-P